DEPARTMENT OF AGRICULTURE

Food and Nutrition Service

Agency Information Collection Activities: Proposed Collection; Comment Request—Senior Farmers' Market Nutrition Program (SFMNP)

AGENCY: Food and Nutrition Service (FNS), USDA.

ACTION: Notice.

SUMMARY: In accordance with the Paperwork Reduction Act of 1995, this notice invites the general public and other public agencies to comment on this proposed information collection. This is a revision of a currently approved collection for the Senior Farmers' Market Nutrition Program (SFMNP).

DATES: Written comments must be received on or before January 19, 2010.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Sandra Clark, Chief, Policy and Program Development Branch, Food and Nutrition Service, U.S. Department of Agriculture, 3101 Park Center Drive, Room 528, Alexandria, VA 22302. Comments may also be submitted via fax to the attention of Margarita Ray at 703-305-2746 or via e-mail to wichq-web@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 522, Alexandria, Virginia 22302.

All responses to this notice will be summarized and included in the request for Office of Management and Budget approval. All comments will be a matter of public record.

FOR FURTHER INFORMATION CONTACT: Requests for additional information or copies of this information collection should be directed to Sandra Clark, Chief, Policy and Program Development Branch at 703-305-2746.

SUPPLEMENTARY INFORMATION: Title: Senior Farmers' Market Nutrition Program.

Form Number: FNS 683A.

OMB Number: 0584-0541.

Expiration Date: 1/31/2010.

Type of Request: Revision of a currently approved collection.

Abstract: Section 4231 of the Food, Conservation and Energy Act of 2008 (Pub. L. 110-246, also known as the Farm Bill) reauthorized the SFMNP through FY 2012; a prior law (the Farm Security and Rural Investment Act of 2002 (Pub. L. 107-171)) gave the Department of Agriculture the authority to promulgate regulations for the operation and administration of the Senior Farmers' Market Nutrition Program (SFMNP). These regulations are published at 7 CFR part 249. The purposes of the SFMNP are to provide resources in the form of fresh, nutritious, unprepared, locally grown fruits, vegetables, honey and herbs from farmers' markets, roadside stands, and community supported agriculture (CSA) programs to low income seniors; to increase the domestic consumption of agricultural commodities by expanding or aiding in the domestic farmers' markets, roadside stands, and CSA programs; and to develop or aid in the development of new and additional farmers' markets, roadside stands, and CSA programs.

USDA published a final rulemaking on the SFMNP on December 6, 2006 (71 FR 74618), that contained an estimated information collection burden based on the rule's requirements for program operation and administration. The initial SFMNP information collection burden was approved by the Office of Management and Budget (OMB) for 3 years, effective January, 2007, under RIN 0584-0541. The Department is now soliciting comments on the accuracy and reasonableness of this estimated burden since the original SFMNP rulemaking.

Burden Estimate

1. Reporting

Affected Public: Respondents include State agencies, local agencies, individuals/households (participants), and authorized SFMNP farms (farmers, farmers' markets, roadside stands, and CSA programs).

Estimated Number of Respondents: The total estimated number of respondents is 970,906. This includes: State agencies, local agencies, individuals/households (participants), and authorized SFMNP farms (farmers, farmers' markets, roadside stands, and CSA programs).

Estimated Number of Responses per Respondent: 1.

Estimated Total Annual Responses: 1,934,836.

Estimated Time per Response: .17.

The estimated time of response varies from 15 minutes to 40 hours depending on respondent group.

Estimated Total Annual Burden on Respondents: 15,273,240 minutes (254,554 hours). See the table below for estimated total annual burden for each type of respondent.

2. Recordkeeping

Estimated Number of Recordkeepings: 963,930.

Respondents include: State and local agencies.

Estimated Average Number of Recordkeepings per Respondent: 1.

Estimated Time per Recordkeeping: 8 hours.

Estimated Total Annual Burden on Respondents: 243,224.

The estimated time of response varies from 15 minutes to 40 hours depending on respondent group.

Estimated Total Annual Reporting/Recordkeeping Requirements: 497,778 hours. See the table below for estimated total annual burden for each type of respondent.

Regulation section | Title | Forms | Estimated number of respondents | Reports filed annually | Total annual response | Estimated hrs/response | Annual burden hrs
Affected Public: STATE & LOCAL AGENCIES (Including Indian Tribal Organizations and U.S. Territories)
Reporting
249.3(e) | Local Agency Applications |  | 490 | 1 | 490 | 2 | 980
249.4 | State Plan |  | 49 | 1 | 49 | 40 | 1,960
249.10(e) | Monitoring/review of outlets |  | 587 | 1 | 587 | 1.5 | 881
249.10(f) | Coupon/CSA management system |  | 49 | 1 | 49 | 5 | 245
249.10(h) | Coupon reconciliation |  | 49 | 1 | 49 | 3 | 147
249.11 | Financial management system |  | 49 | 1 | 49 | 10 | 490
249.12 | Prior Approval for costs per 7 CFR 3016.22 |  | 5 | 1 | 5 | 160 | 800
249.17(b)(2) | State agency corrective action plans |  | 12 | 1 | 12 | 10 | 120
249.18(b) | Audit responses |  | 12 | 1 | 12 | 15 | 180
249.23(b) | Financial/recipient reports |  | 49 | 1 | 49 | 40 | 1,960
Subtotal | (Reporting Requirements) |  | 1,351 |  | 1,351 | .17 | 7,763
Affected Public: INDIVIDUALS/HOUSEHOLDS (Applicants for Program Benefits)
Reporting
249.6(a)(3) | Certification data for seniors |  | 963,685 | 1 | 963,685 | 0.25 | 240,921
Subtotal | (Reporting Requirements) |  | 963,685 |  | 963,685 |  | 240,921
Affected Public: Farms (Farmers/Markets/Roadside stands/CSAs)
Reporting |  |  |  |  |  |  |
249.10(b) | Farmer applications & agreements |  | 5,870 | 1 | 5,870 | 1 | 5,870
Subtotal | (Reporting Requirements) |  | 5,870 |  | 5,870 |  | 5,870
GRAND SUBTOTAL |  |  | 970,906 |  | 970,906 |  | 254,554
Affected Public: STATE & LOCAL AGENCIES (Including Indian Tribal Organizations and U.S. Territories)
Recordkeeping
249.9 | Nutrition education |  | 963,685 | 1 | 963,685 | 0.25 | 240,921
249.10(b) | Authorized outlet agreements |  | 49 | 1 | 49 | 2 | 98
249.10(e) | Summary of authorized outlet monitoring |  | 49 | 1 | 49 | 2 | 98
249.11 | Record of financial expenditures |  | 49 | 1 | 49 | 2 | 98
249.16(a) | Fair hearings |  | 49 | 1 | 49 | 1 | 49
249.23(a) | Record of program operations |  | 49 | 1 | 49 | 40 | 1,960
Subtotal | (Recordkeeping Requirements) |  | 963,930 |  | 963,930 |  | 243,224
TOTAL BURDEN | (Reporting & Recordkeeping) |  | 1,934,836 |  | 1,934,836 |  | 497,778

Dated: November 10, 2009.
Julia Paradis,
Administrator, Food and Nutrition Service.

[FR Doc. E9-27600 Filed 11-17-09; 8:45 am]

BILLING CODE 3410-30-P